ENVIRONMENTAL PROTECTION AGENCY

40 CFR 180

[EPA-HQ-OPP-2015-0032; FRL-9954-06]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before December 30, 2016.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael L. Goodis, Acting Director, Registration Division (RD) (7505P), main telephone number: (703) 305-7090; email address: RDFRNotices@epa.gov; or Robert McNally, Director, Biopesticides and Pollution Prevention Division (7511P); main number (703) 305-7090; email address: BPPDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 6E8462. (EPA-HQ-OPP-2016-0365). Syngenta Crop Protection, LLC, P.O. Box 18300, Greensboro, NC 27419, requests to establish an import tolerance in 40 CFR part 180 for residues of the herbicide trinexapac-ethyl: 4-(cyclopropyl-α-hydroxy-methylene)-3,5-dioxo-cyclohexanecarboxylic acid ethyl ester expressed as its primary metabolite CGA-179500: 4-(cyclopropyl-α-hydroxy-methylene)-3,5-dioxo-cyclohexanecarboxylic acid in or on poppy, seed at 8 parts per million (ppm). The Syngenta Crop Protection Analytical Method GRM020.01A is used to measure and evaluate the chemical trinexapac-ethyl expressed as its major metabolite CGA-179500. Contact: RD.

2. PP 6E8488. (EPA-HQ-OPP-2016-0384). Interregional Research Project No. 4 (IR-4) Project Headquarters, Rutgers, The State University of NJ, 500 College Road East, Suite 201 W, Princeton, NJ 08540, requests to establish a tolerance in 40 CFR part 180 for residues of the herbicide quinclorac, 3,7-dichloro-8-quinolinecarboxylic acid in or on asparagus at 0.06 ppm; the bushberry subgroup 13-07B, except lowbush blueberry at 0.6 ppm; and the caneberry subgroup 13-07A at 0.06 ppm. Adequate analytical methods gas chromatography/electron capture detector (GC/ECD) are available for enforcing quinclorac tolerances on plant (BASF Method A8902) and livestock (BASF Method 268/1) commodities. Contact: RD.

3. PP 6E8492. (EPA-HQ-OPP-2016-0495). Interregional Research Project No. 4 (IR-4) Project Headquarters, Rutgers, The State University of NJ, 500 College Road East, Suite 201 W, Princeton, NJ 08540, requests to establish a tolerance in 40 CFR part 180 for residues of prometryn in or on the raw agricultural commodity lettuce at 0.5 ppm; cottonseed subgroup 20C at 0.25 ppm; fennel, Florence at 0.5 ppm; leaf petiole vegetable subgroup 22B at 0.5 ppm; sesame, oil at 0.12 ppm; sesame, seed at 0.05 ppm; and Swiss chard at 0.5 ppm. A gas chromatography analytical method is available for enforcement purposes. The method determines residues of prometryn in/on plants using a microcoulometric sulfur detection system. Contact: RD.

4. PP 6E8498. (EPA-HQ-OPP-2016-0563). Bayer CropScience, 2 T.W. Alexander Drive, Research Triangle Park, NC 27709, requests to establish a tolerance in 40 CFR part 180 for residues of the insecticide, imidacloprid, in or on olive at 2 ppm, tea, green at 50 ppm, and tea, black (dried) at 50 ppm. The common moiety method using a permanganate oxidation, silyl derivatization, and capillary gas chromatography mass spectrometry (GC MS) selective ion monitoring is used to measure and evaluate the chemical imidacloprid and its metabolites containing the 6-chloropyridinyl moiety. Contact: RD.

5. PP 6F8479. (EPA-HQ-OPP-2016-0508). Bayer CropScience LP, 2 T.W. Alexander Drive, Research Triangle Park, NC 27709, requests to establish a tolerance in 40 CFR part 180 for residues of the fungicide fluoxastrobin in or on Rapeseed Subgroup 20A at 0.01 ppm. The analytical method liquid chromatography-mass spectrometry (LC/MS/MS) detection method is used to measure and evaluate the chemical fluoxastrobin. Contact: RD.

6. PP 6F8458. (EPA-HQ-OPP-2016-0537). Syngenta Crop Protection, LLC, PO Box 18300, Greensboro, NC 27419, requests to establish tolerances in 40 CFR 180.665 for residues of the fungicide, sedaxane, by establishing tolerances in or on grain, cereal, forage, fodder and straw, group 16 at 0.06 ppm; grain, cereal, group 15 at 0.01 ppm; peanut at 0.01 ppm; and peanut, hay at 0.08 ppm. The GRM023.01A/GRM023.01B and HPLC/LC-MS/MS is used to measure and evaluate the chemical sedaxane. Contact: RD.

7. PP 6F8475. (EPA-HQ-OPP-2016-0538). FMC Corporation, 1735 Market Street, Philadelphia, PA 19103, requests to establish a tolerance in 40 CFR 180 for residues of the fungicide, bixafen, in or on cattle, fat at 0.5 ppm; cattle, kidney at 0.3 ppm; cattle, liver at 1.5 ppm; cattle, muscle at 0.15 ppm; grain, cereal, forage, fodder and straw, group 16 (except rice), forage at 4.0 ppm; grain, cereal, forage, fodder and straw, group 16 (except rice), hay at 5.0 ppm; grain, cereal, forage, fodder and straw, group 16 (except rice), stover at 6.0 ppm; grain, cereal, forage, fodder and straw, group 16 (except rice), straw at 7.0 ppm; grain, cereal, group 15 (except rice and sorghum) at 0.15 ppm; grain, aspirated fractions at 80 ppm; milk at 0.1 ppm; oilseed, rapeseed subgroup 20A at 0.15 ppm; peanut, hay at 10.0 ppm; peanut, nutmeat at 0.02 ppm; peanut, refined oil at 0.04 ppm; poultry, eggs at 0.02 ppm; poultry, fat at 0.02 ppm; poultry, liver at 0.02 ppm; poultry, muscle at 0.02 ppm; sorghum, grain at 3.0 ppm; soybean, hulls at 0.15 ppm; soybean, seed at 0.06 ppm; sugar beet, dried pulp at 1.0 ppm; vegetable, root subgroup 1A at 0.2 ppm and vegetable, tuberous and corm subgroup 1C at 0.02 ppm. The HPLC-MS/MS is used to measure and evaluate the chemical bixafen. Contact: RD.

8. PP 6F8493. (EPA-HQ-OPP-2016-0536). United Phosphorus, Inc., 630 Freedom Business Center, Suite 402, King of Prussia, PA 19406, requests to establish a tolerance in 40 CFR 180 for residues of the fungicide, ziram, in or on filbert (hazelnut) at 0.1 ppm. The residues of ziram are determined by acid hydrolysis to release carbon disulfide (CS2). The CS2 is measured by head-space gas chromatography or colorimetrically. Adequate enforcement methodology is used to measure and evaluate the chemical ziram. Contact: RD.

Amended Tolerances

1. PP 6E8492. (EPA-HQ-OPP-2016-0495). Interregional Research Project No. 4 (IR-4) Project Headquarters, Rutgers, The State University of NJ, 500 College Road East, Suite 201 W, Princeton, NJ 08540, requests to remove the tolerances in 40 CFR 180.222 for residues of prometryn in or on cotton, undelinted seed at 0.25 ppm and the leaf petioles subgroup 4B at 0.5 ppm. A gas chromatography analytical method is available for enforcement purposes. The method determines residues of prometryn in/on plants using a microcoulometric sulfur detection system. Contact: RD.

2. PP 6E8500. (EPA-HQ-OPP-2016-0518). BASF Corporation, P.O. Box 13528, Research Triangle Park, NC 27709, requests to amend the tolerance in 40 CFR 180.663 for residues of the fungicide ametoctradin in or on hops, dried cone from 10 ppm to 100 ppm. The high performance liquid chromotography—mass spectrometry (HPLC-MS/MS) analytical method is used to measure and evaluate the chemical residues of ametoctradin. Contact: RD.

3. PP 6F8458. (EPA-HQ-OPP-2016-0537). Syngenta Crop Protection, LLC, PO Box 18300, Greensboro, NC 27419, requests to amend the tolerances in 40 CFR 180.665 for residues of the fungicide, sedaxane, by removing the tolerances on barley, grain at 0.01 ppm; barley, hay at 0.04 ppm; barley, straw at 0.01 ppm; corn, field, forage at 0.01 ppm; corn, field, grain at 0.01 ppm; corn, field, stover at 0.01 ppm; corn, pop, grain at 0.01 ppm; corn, pop, stover at 0.01 ppm; corn, sweet, forage at 0.01 ppm; corn, sweet, kernel plus cob with husks removed at 0.01 ppm; corn, sweet, stover at 0.01 ppm; oat, forage at 0.015 ppm; oat, grain at 0.01 ppm; oat, hay at 0.06 ppm; oat, straw at 0.01 ppm; rye, forage at 0.015 ppm; rye, grain at 0.01 ppm; rye, straw at 0.01 ppm; sorghum, grain, forage at 0.01 ppm; sorghum, grain, grain at 0.01 ppm; sorghum, grain, stover at 0.01 ppm; wheat, forage at 0.015 ppm; wheat, grain at 0.01 ppm; wheat, hay at 0.06 ppm; and wheat, straw at 0.01 ppm. The GRM023.01A/GRM023.01B and HPLC/LC-MS/MS is used to measure and evaluate the chemical sedaxane. Contact: RD.

New Tolerance Exemptions

1. PP IN-10849. (EPA-HQ-OPP-2015-0728). Jeneil Biosurfactant Company, 1150 18th Street NW., Suite 1000, Washington, DC 20036, requests to establish an exemption from the requirement of a tolerance for residues of isoamyl alcohol (CAS Reg. No. 123-51-3) when used as an inert ingredient (solvent) in pesticide formulations applied to growing crops and raw agricultural commodities after harvest under 40 CFR 180.910. The petitioner believes no analytical method is needed because it is not required for an exemption from the requirement of a tolerance. Contact: RD.

2. PP IN-10949. (EPA-HQ-OPP-2016-0337). Clariant Corporation, 4000 Monroe Road, Charlotte, NC 28205 requests to establish an exemption from the requirement of a tolerance for residues of fatty acids, montan-wax, ethoxylated (CAS Reg No. 68476-04-0) having a minimum number-average molecular weight (in amu) of 1800, when used as an inert ingredient in pesticide formulations under 40 CFR 180.960. The petitioner believes no analytical method is needed because it is not required for a tolerance exemption. Contact: RD.

Amended Tolerance Exemptions

1. PP 6E8471. (EPA-HQ-OPP-2016-0566). Interregional Research Project Number 4 (IR-4), Rutgers University, 500 College Rd. East, Suite 201W, Princeton, NJ 08540, requests to amend an exemption from the requirement of a tolerance in 40 CFR 180.1206 for residues of the fungicide Aspergillus flavus AF36 by adding in or on almond and fig. The petitioner believes no analytical method is needed because an exemption from the requirement of a tolerance is proposed for Almond and Fig. Contact: BPPD.

Authority: 21 U.S.C. 346a.

Dated: November 16, 2016.
Michael L. Goodis,
Acting Director, Registration Division, Office of Pesticide Programs.

[FR Doc. 2016-28738 Filed 11-29-16; 8:45 am]

BILLING CODE 6560-50-P